DEPARTMENT OF STATE

[Public Notice: 9298]

In the Matter of the Designation of Jaysh Rijal al-Tariq al-Naqshabandi, Also Known as Army of the Men of the Naqshbandi Order, Also Known as Armed Men of the Naqshabandi Order, Also Known as Naqshbandi Army, Also Known as Naqshabandi Army, Also Known as Men of the Army of al-Naqshbandia Way, Also Known as Jaysh Rajal al-Tariqah al-Naqshbandia, Also Known as JRTN, Also Known as JRN, Also Known as AMNO, as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the organization known as Jaysh Rijal al-Tariq al-Naqshabandi also known as Army of the Men of the Naqshbandi Order also known as Armed Men of the Naqshabandi Order also known as Naqshbandi Army also known as Naqshabandi Army also known as Men of the Army of al-Naqshbandia Way also known as Jaysh Rajal al-Tariqah al-Naqshbandia also known as JRTN also known as JRN also known as AMNO, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: September 21, 2015.
John F. Kerry,
Secretary of State.

[FR Doc. 2015-24838 Filed 9-29-15; 8:45 am]

BILLING CODE 4710-AD-P